DEPARTMENT OF COMMERCE

National Oceanic and Atmospheric Administration

RIN 0648-XX11

New England Fishery Management Council; Public Hearings

AGENCY: National Marine Fisheries Service (NMFS), National Oceanic and Atmospheric Administration (NOAA), Commerce.

ACTION: Notice of public hearings; request for comments.

SUMMARY: The New England Fishery Management Council (Council) will hold six public hearings to solicit comments on proposals to be included in the Draft Amendment 15 to the Atlantic Sea Scallop Fishery Management Plan (FMP).

DATES: The public hearings will be held from July 12 through July 21, 2010. For specific dates and times, see SUPPLEMENTARY INFORMATION.

ADDRESSES: The Council will take comments at public meetings in Portland, ME; Fairhaven, MA; Chatham, MA; New London, CT; Cape May, NJ and Newport News, VA. For specific locations, see SUPPLEMENTARY INFORMATION.

DATES: Written comments should be sent to Patricia Kurkul, Regional Administrator, National Marine Fisheries Service, 55 Great Republic Drive, Gloucester, MA 01930. Comments may also be sent via fax to (978) 281-9135 or submitted via e-mail to amendment15@noaa.gov with (Comments on Scallop Draft Amendment 15” in the subject line. Requests for copies of the public hearing document and other information should be directed to Paul J. Howard, Executive Director, New England Fishery Management Council, 50 Water Street, Mill 2, Newburyport, MA 01950; telephone: (978) 465-0492. The public hearing document is also accessible electronically via the Internet at http://www.nefmc.org.

FOR FURTHER INFORMATION CONTACT: Paul J. Howard, Executive Director, New England Fishery Management Council; telephone: (978) 465-0492.

SUPPLEMENTARY INFORMATION: The Council proposes to take action to amend the Atlantic Sea Scallop Fishery Management Plan (FMP) and to address the new and revised requirements of the Magnuson-Stevens Fisheries Act. The Council will consider comments from fishermen, interested parties and the general public on the proposals and alternatives described in the public hearing document for Draft Amendment 15 to the Scallop FMP. Once it has considered public comments, the Council will approve final management measures and prepare a submission package for NMFS. There will be an additional opportunity for written public comments on the Proposed Rule when it is published in the Federal Register.

Major elements of the alternatives in the Draft Amendment 15 and Draft Supplemental Environmental Impact Statement include: (1) implementation and specification of annual catch limits (ACLs) and accountability measures (AMs) to comply with a new mandate of the reauthorized Magnuson-Stevens Act; (2) measures to address excess capacity in the limited access scallop fishery and provide more flexibility for efficient utilization of the resource through various permit stacking and leasing alternatives; and (3) several adjustments to make the overall Scallop FMP more effective. The third general goal includes measures to consider changes to the limited access general category fishery, adjusting the overfishing definition, modifying the essential fish habitat closed areas in the Scallop FMP, changing the scallop fishing year and several adjustments to the research set-aside program.

The dates, times, locations and telephone numbers of the hearings are as follows:

•Monday, July 12, 2010 at 7 p.m. - Holiday Inn by the Bay, 88 Spring Street, Portland, ME 04101; telephone: (207) 775-2311;

•Tuesday, July 13, 2010 at 7 p.m. - Seaport Inn, 110 Middle Street, Fairhaven, MA 02719; telephone: (508) 997-1281;

•Wednesday, July 14, 2010 at 7 p.m. - Chatham Bars Inn, 297 Shore Road, Chatham, MA 02633; telephone: (508) 945-0096;

•Monday, July 19, 2010 at 7 p.m. - Radisson Hotel, 35 Governor Winthrop Boulevard, New London, CT 06320; telephone: (860) 443-7000;

•Tuesday, July 20, 2010 at 7 p.m. - Congress Hall, 251 Beach Avenue, Cape May, NJ 08204; telephone: (609) 884-8421;

•Wednesday, July 21, 2010 at 7 p.m. - Omni Newport News Hotel, 1000 Omni Boulevard, Newport News, VA 23606; telephone: (757) 873-6664.

Special Accommodations

These hearings are physically accessible to people with physical disabilities. Requests for sign language interpretation or other auxiliary aids should be directed to Paul J. Howard (see ADDRESSES) at least 5 days prior to the meeting date.

Authority: 16 U.S.C. 1801 et seq.

Dated: June 22, 2010.
Tracey L. Thompson,
Acting Director, Office of Sustainable Fisheries, National Marine Fisheries Service.

[FR Doc. 2010-15484 Filed 6-24-10; 8:45 am]

BILLING CODE 3510-22-S